FEDERAL RESERVE SYSTEM

Formations of, Acquisitions by, and Mergers of Bank Holding Companies; Correction

This notice corrects a notice (FR Doc. 05-16089) published on page 53354 of the issue for Tuesday, August 9, 2005.

Under the Federal Reserve Bank of Cleveland, the entry for Rurban Financial Corporation, Defiance, Ohio, is revised to read as follows:

Federal Reserve Bank of Cleveland (Cindy West, Manager) 1455 East Sixth Street, Cleveland, Ohio 44101-2566:

Rurban Financial Corporation, Defiance, Ohio; to merge with Exchange Bancshares,Inc., and thereby acquire The Exchange Bank, both of Luckey, Ohio.

Comments on this application must be received by September 8, 2005.

Board of Governors of the Federal Reserve System, August 16, 2005.
Robert deV. Frierson,
Deputy Secretary of the Board.

[FR Doc. 05-16563 Filed 8-19-05; 8:45 am]

BILLING CODE 6210-01-S